DEPARTMENT OF TRANSPORTATION

Federal Highway Administration

Environmental Impact Statement; Maricopa County, Arizona

AGENCY: Federal Highway Administration (FHWA), DOT.

ACTION: Notice of intent.

SUMMARY: The FHWA is issuing this notice to advise the public that an individual impact statement will be prepared for a proposed highway project within Maricopa County, Arizona.

FOR FURTHER INFORMATION CONTACT: Kenneth H. Davis, District Engineer, Federal Highway Administration, 234 North Central Avenue, Suite 330, Phoenix, AZ 85004, telephone (602) 379-3646.

SUPPLEMENTARY INFORMATION: The FHWA, in cooperation with the Arizona Department of Transportation (ADOT), will prepare an environmental impact statement (EIS) to study the proposed South Mountain Corridor in Maricopa County, Arizona. The proposed project will involve construction of a new multilane freeway in the metropolitan Phoenix area extending approximately 25 miles from I-10 west of Phoenix to I-10 southeast of Phoenix to form a southwest loop. The proposed project will evaluate potential impacts to mountain preserve land, residential and commercial development, Tribal lands, cultural resources, historic roads and canals, Endangered Species, jurisdictional water of the U.S., air and noise quality, and hazardous waste.

Improvements to the corridor are considered necessary to provide for the existing and projected traffic demand. A full range of reasonable alternatives will be considered including (1) taking no action; (2) using alternate travel modes; (3) limited access parkway; (4) major urban arterial with transportation system management improvements; and (5) a freeway.

A Final State Environmental Assessment was completed for the South Mountain Corridor. At that time, a recommended alternative was selected and an accompanying Design Concept Report was completed in September 1988. Due to the elapsed time and changed conditions that have occurred since completion of these documents, new studies are required.

Letters describing the proposed action and soliciting comments will be sent to appropriate Federal, State and local agencies including the Environmental Protection Agency, U.S. Army Corps of Engineers, Bureau of Indian Affairs, Bureau of Land Management, U.S. Fish and Wildlife Service, Arizona State Land Department, Arizona Game & Fish Department, City of Phoenix, Town of Laveen, City of Avondale, and the Gila River Indian Tribe. Letters will also be sent to interested parties including, the Ahwatukee Foothills Village Planning Committee, Laveen Village Planning Committee and Estrella Village Planning Committee.

A series of public meetings will be held in the communities within the proposed study area. In addition, a public hearing will be held. Public notice will be given advising of the time and place of the meetings and hearing. A formal scoping meeting is planned between Federal, State, city and Tribal stakeholders.

To insure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Kenneth H. Davis,
District Engineer, Phoenix.

[FR Doc. 01-9782 Filed 4-19-01; 8:45 am]

BILLING CODE 4910-22-M